ENVIRONMENTAL PROTECTON AGENCY

[EPA-HQ-OW-2010-0164; FRL-9129-4]

Executive Order 13508; Chesapeake Bay Protection and Restoration Section 502; Guidance for Federal Land Management in the Chesapeake Bay Watershed

AGENCY: Environmental Protection Agency (EPA).

ACTION: Notice and request for public review and comment.

SUMMARY: This notice announces the availability of a draft Guidance for Federal land management in the Chesapeake Bay watershed describing proven, cost-effective tools and practices that reduce water pollution and requests public comment. The document was prepared pursuant to Executive Order (E.O.) 13508 of May 12, 2009, Chesapeake Bay Protection and Restoration. This E.O. requires that the draft guidance be published for public review and comments.

DATES: Comments on the draft guidance must be submitted on or before April 23, 2010.

ADDRESSES: Submit your comments, identified by Docket ID No. EPA-HQ-OW-2010-0164, by one of the following methods:

• http://www.regulations.gov: After entering the docket for this action, click on the draft strategy document to make comment. Once you arrive at the page for the specific document on which you wish to comment, click the “Submit a Comment” button at the top right of the Web page, then follow the online instructions.

• Mail: Water Docket, Environmental Protection Agency, Mailcode: 2822T, 1200 Pennsylvania Ave., NW., Washington, DC 20460.

• Hand Delivery: EPA Docket Center Public Reading Room, EPA Headquarters West, Room 3340, 1301 Constitution Avenue, NW., Washington, DC. Such deliveries are only accepted during the Docket's normal hours of operation (8:30 a.m. to 4:30 p.m.), and special arrangements should be made for deliveries of boxed information by contacting the Docket Center at 202-566-1744.

Instructions: Direct your comments to Docket ID No. EPA-HQ-OW-2010-0164. This Notice is not open for public comment, but, the Section 502 draft guidance document is available for comment on http://www.regulations.gov. Additional information about the docket is contained below.

FOR FURTHER INFORMATION CONTACT: Katie Flahive, USEPA, Office of Water, Office of Wetlands, Oceans, and Watersheds; 1200 Pennsylvania Ave., NW., MC 4503T, Washington, DC 20460; telephone number: (202) 566-1206; fax number (202) 566-1437; e-mail: flahive.katie@epa.gov.

SUPPLEMENTARY INFORMATION:

Why Were These Documents Prepared?

Executive Order 13508, Chesapeake Bay Protection and Restoration, dated May 12, 2009 (74 FR 23099, May 15, 2009), requires the Administrator of EPA within 1 year and after consulting with the Committee and providing for public review and comment to publish this guidance document by May 12, 2010. The purpose of this document is to provide information and data on land management practices that, if implemented widely across the Chesapeake Bay watershed by both Federal land managers and non-Federal entities (and assuming that all necessary point source reductions are achieved and other needed restoration actions are taken), will enable the Chesapeake Bay to be restored. In significant part, this guidance is being developed to offer solutions for implementation to meet specific Chesapeake Bay goals. EPA, in conjunction with other agencies, is currently developing Bay-wide pollutant reduction goals that will ultimately be used to establish total maximum daily loads (TMDL) under Section 303(d) of the Clean Water Act for the Chesapeake Bay watershed. The TMDL will be followed by the development of watershed implementation plans in 92 Bay sub-watersheds that will have had load and wasteload allocations assigned based on the TMDL and the Chesapeake Bay model. While the Section 502 guidance document is required to be published by May 12, 2010, before the TMDL is finalized, we expect that the TMDL and sub-watershed allocations will clarify that the great majority of nonpoint sources in the Chesapeake Bay watershed will need to be controlled, and be controlled well, in order to restore the Bay. This guidance will have chapters addressing the following categories of activity: Agriculture; Urban areas, including Turf (excluding sources regulated as point sources); Onsite/Decentralized Treatment Systems; Forestry; Riparian Areas; and Hydromodification. Each chapter will contain one or more “implementation goals” that provide the framework for the chapter. These are intended to convey the essential actions that will need to be implemented in order to assure that the broad goals of the Chesapeake Bay Executive Order can be achieved. Each chapter also includes information on practices that can be used to achieve the goals; information on the effectiveness and costs of the practices; where relevant, cost savings or other economic/societal benefits (in addition to the pollutant reduction benefits) that derive from the implementation goals and/or practices; and copious references to other documents that provide additional information. Due to the expedited timeframe set by the Executive Order, the document is undergoing concurrent Federal Leadership Committee and public review, both as required by the Executive Order. Note that this public review is also concurrent with a technical peer review. EPA anticipates reviewing comments by these three entities in advance of the development of the final document.

How Can I Access the Docket and/or Submit Comments?

Docket: EPA has established a public docket for this Notice under Docket ID No. EPA-HQ-OW-2010-0164. The E.O. Section 502 draft guidance document is available in the docket at http://www.regulations.gov, as well as at http://www.epa.gov/nps and

http://executiveorder.chesapeakebay.net. Assistance and tips for accessing the docket can be found at http://executiveorder.chesapeakebay.net. Comments via e-mail are not being accepted. Instead, comments will be accepted through http://www.regulations.gov and by mail. If you are commenting on the Section 502 draft guidance, submit comments to this specific document within the docket and identify the page number(s) at which each comment is directed. All comments received, including any personal information provided, will be included in the public docket without change and will be made available online at http://www.regulations.gov, unless the comment includes information claimed to be Confidential Business Information (CBI) or other information, the disclosure of which is restricted by statute. Do not submit information that you consider to be CBI or otherwise protected through http://www.regulations.gov. It is recommended that you include your name and other contact information in the body of your comment and with any disk or CD-ROM you submit. If your comment cannot be read due to technical difficulties and we are unable to contact you for clarification, we will not consider your comment. Electronic files should avoid the use of special characters, any form of encryption, and be free of any defects or viruses. For additional information about the public docket visit the EPA Docket Center homepage at http://www.epa.gov/epahome/dockets.htm. Publicly available docket materials are available electronically either at http://www.regulations.gov as well as at the EPA Docket Center, EPA/DC, EPA West, Room 3334, 1301 Constitution Ave., NW., Washington, DC. The telephone number for this docket is 202-566-2426. The Public Reading Room is open from 8:30 a.m. to 4:30 p.m., Monday through Friday, excluding legal holidays. The telephone number for the Public Reading Room is (202) 566-1744. Certain material, such as copyrighted materials, will be publicly available only in hard copy at the Docket Center.

Why Is EPA Posting This Guidance for Public Comment?

Executive Order 13508 requires the Administrator of the EPA to prepare and publish after providing for public review and comment, guidance for Federal land management in the Chesapeake Bay watershed describing proven, cost-effective tools and practices that reduce water pollution, including practices that are available for use by Federal agencies.

What Are the Next Steps in the Process for Collecting Public Comment?

EPA will review public comments on the draft guidance. The comments will be taken into consideration as the EPA develops the final Section 502 guidance document. A response to comments document will be released at the same time as the final E.O. 13508 Section 502 guidance document with anticipated release by May 12, 2010.

Dated: March 18, 2010.
Peter S. Silva,
Assistant Administrator, Office of Water.

[FR Doc. 2010-6488 Filed 3-23-10; 8:45 am]

BILLING CODE 6560-50-P